DEPARTMENT OF HEALTH AND HUMAN SERVICES

National Institutes of Health

Center for Scientific Review; Amended Notice of Meeting

Notice is hereby given of a change in the meeting of the Population based Research in Infectious Disease Study Section, October 30, 2025, 10:00 a.m. to October 31, 2025, 06:00 p.m., National Institutes of Health, Rockledge II, 6701 Rockledge Drive, Bethesda, MD 20892 which was published in the Federal Register on 9/24/2025 2025, 90 FR 45951, Doc Number 2025-18519

This meeting is being amended to change the date to January 12 to January 13, 2026.

Dated: January 12, 2026.
Bruce A. George,
Program Analyst, Office of Federal Advisory Committee Policy.

[FR Doc. 2026-00760 Filed 1-14-26; 8:45 am]

BILLING CODE 4140-01-P